NATIONAL SCIENCE FOUNDATION

Notice of Intent To Request New Information Collection

AGENCY: National Science Foundation.

ACTION: Notice and request for comments.

SUMMARY: The National Science Foundation (NSF) is announcing plans to request renewal of the Early Career Doctorates Survey (OMB Control Number 3145-0235). In accordance with the requirement of section 3506(c)(2)(A) of the Paperwork Reduction Act of 1995, (Pub. L. 104-13), we are providing opportunity for public comment on this action. After obtaining and considering public comment, NSF will prepare the submission requesting that OMB approve clearance of this collection for three years.

Comments: Comments are invited on: (a) Whether the proposed collection of information is necessary for the proper performance of the functions of the NSF, including whether the information shall have practical utility; (b) the accuracy of the agency's estimate of the burden of the proposed collection of information; (c) ways to enhance the quality, utility, and clarity of the information to be collected; and (d) ways to minimize the burden of the collection of information on those who are to respond, including through the use of appropriate automated, electronic, mechanical, or other technological collection techniques or other forms of information technology.

DATES: Written comments on this notice must be received by August 2, 2016, to be assured consideration. Comments received after that date will be considered to the extent practicable. Send comments to address below.

For Additional Information or Comments: Contact Suzanne H. Plimpton, the NSF Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1- 800-877-8339, which is accessible 24 hours a day, 7 days a week, 365 days a year (including Federal holidays).

SUPPLEMENTARY INFORMATION:

Title of Collection: Early Career Doctorates Survey.

OMB Approval Number: 3145-0235.

Expiration Date: June 30, 2017.

Type of Request: Intent to seek approval to extend an information collection for three years.

Abstract: Established within the NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public. The Early Career Doctorates Survey (ECDS) will become part of an integrated survey system that meets the human resources statistics part of this mission.

The Early Career Doctorates Project was established to gather in-depth information about early career doctorates (ECDs), including postdoctoral researchers (postdocs). Early career doctorates are critical to the success of the U.S. scientific enterprise and will influence U.S. and global scientific markets for years to come. Despite their importance, current surveys of this population are limited, and extant workforce studies are insufficient for all doctorates who contribute to the U.S. economy. The NSF's Survey of Earned Doctorates and the Survey of Doctorate Recipients are limited to individuals who received research doctorates from U.S. academic institutions, thereby excluding individuals who earned professional doctorates and those who earned doctorates from institutions outside the United States but are currently employed in the United States. The NSF's Survey of Graduate Students and Postdoctorates in Science and Engineering (GSS) provides aggregate level data for all postdocs and nonfaculty researchers regardless of where they earned the degree. However, the GSS is limited to science, engineering, and selected health (SEH) fields in U.S. academic institutions and their related research facilities and is collected at the program rather than the individual level.

Through its multi-year Postdoc Data Project, NCSES determined the need for and the feasibility of gathering information about postdocs working in the United States. However, efforts to reliably identify and gather information about postdocs proved difficult due to substantial variation in how institutions characterize postdoc appointments. As a result, NCSES expanded the target population to include all individuals who earned their first doctorate within the past 10-years. Expanding the population to doctoral degree holders ensures a larger, more consistent and reliable target population. Unique in scope, the key goals of the ECD Project are:

• To broaden the scope and depth of national statistics on the ECD population both U.S. degreed and non-U.S. degreed, across employment sectors and fields of discipline

• To collect nationally representative data from ECDs that can be used by funding agencies, policy makers, and other researchers to better understand the labor market and work experiences of recent doctorate recipients

• To gather the diverse definitions for ECDs to allow for analysis within and across employment sectors

The current focus of the ECD Project is to conduct a survey of ECDs working in three areas of employment: U.S. academic institutions in the GSS, Federally Funded Research and Development Centers, and the National Institutes of Health Intramural Research Programs. NCSES, under full clearance (OMB #3145-0235), has conducted a pilot survey with data collection period spanning July 2014 to March 2015. The Pilot ECDS data will be released in 2016.

Beginning in November 2016, NSF will request lists of ECDs from approximately 390 institutions nationwide, and sample 24,000 individuals from these lists. Sample members will be invited to participate in a 40-minute web-based questionnaire. The survey topics cover: Educational achievement, professional activities, employer demographics, professional and personal life balance, mentoring, training and research opportunities, and career paths and plans. Participation in the survey is voluntary.

The survey will be collected in conformance with the Privacy Act of 1974 and the Confidential Information Protection and Statistical Efficiency Act (CIPSEA). The NSF will ensure that all individually identifiable information collected will be kept strictly confidential and will be used for research or statistical purposes.

Use of the Information: The NSF will publish statistics from the survey in several reports, including the National Science Board's Science and Engineering Indicators and NCSES's Women, Minorities, and Persons with Disabilities in Science and Engineering. These reports will be made available electronically on the NSF Web site. Restricted-use and public use data files will also be developed, and will be made available to interested researchers from government, professional associations, and other organizations. Restricted-use data may be obtained under a license agreement.

Expected Respondents: There are four groups who contribute to the estimated total burden hours of the ECDS data collection. Three groups assist in the development of an accurate list of ECDs: Institutional high authority (HA), communication coordinator (CC), and list coordinator (LC). The fourth group is the individual early career doctorate (ECD). At the first stage of sampling, the ECDS will select 390 institutions. At each institution, a high authority (HA) will authorize the institution's participation in the study, designate a list coordinator (LC) and a communication coordinator (CC), and provide a letter of support for the survey. The primary responsibility of the LC is to prepare a list of ECD working at the institution. The LC will provide a list of all ECD, that is, individuals working at their institution who earned their first doctorate or doctorate-equivalent degree within the past 10 years, including postdocs, nonfaculty researchers, tenured or tenure-track faculty members. The primary responsibility of the CC is to coordinate all communications at the institution. In the second stage, the HA, with the help of the CC, will notify the sampled individuals of their selection and NSF will survey these individuals.

Estimate of Burden: In the Pilot ECDS, HAs required 30 minutes on average to complete their tasks while CCs required 90 minutes on average to complete their tasks. We estimate a maximum total burden of 195 hours for HAs and 585 hours for CCs across both stages of data collection. LCs in participating institutions required an average of 8 hours to fulfill their duties during the Pilot ECDS. We estimate the maximum total LC burden to be 3,120 hours during stage 1. NCSES estimates that respondents will take 40 minutes on average to complete the questionnaire based on the time to completion data from the Pilot ECDS. We estimate the maximum total ECD burden to be 16,000 hours.

Taking into account all four groups (HA, CC, LC, and ECD), we estimate the maximum total respondent burden to be 19,900 hours. The below table shows the estimated burden by stage and respondent type.

ECDS Estimated Burden by Stage and Respondent Type
Respondent type | Sample members | Minutes per respondent | Estimated total burden hours
Stage 1: Frame Creation:
High Authority (HA) | 390 | 20 | 130
Communication Coordinator (CC) | 390 | 60 | 390
List Coordinator (LC) | 390 | 480 | 3,120
Subtotal |  |  | 3,640
Stage 2: Individual Survey:
High Authority (HA) | 390 | 10 | 65
Communication Coordinator (CC) | 390 | 30 | 195
Early Career Doctorate (ECD) | 24,000 | 40 | 16,000
Subtotal |  |  | 16,260
Total ¹ | - | - | 19,900
¹ This is an initial estimated burden hours which is based on preliminary sample design. NCSES anticipates the final burden hours to be at or below this initial estimate.

Dated: May 27, 2016.
Suzanne H. Plimpton,
Reports Clearance Officer, National Science Foundation.

[FR Doc. 2016-13081 Filed 6-2-16; 8:45 am]

BILLING CODE 7555-01-P